DEPARTMENT OF ENERGY

Federal Energy Regulatory Commission

[Docket No. AD19-12-000]

Security Investments for Energy Infrastructure Technical Conference; Supplemental Notice of Technical Conference

Take notice that the Federal Energy Regulatory Commission (Commission) and the United States Department of Energy (DOE) will co-host a Security Investments for Energy Infrastructure Technical Conference (conference) on Thursday, March 28, 2019, from 10:00 a.m. to 4:00 p.m. This Commissioner- and DOE senior official-led conference will be held in the Commission Meeting Room at the Federal Energy Regulatory Commission, 888 First Street NE, Washington, DC 20426. The purpose of the conference is to discuss current cyber and physical security practices used to protect energy infrastructure and will explore how federal and state authorities can provide incentives and cost recovery for security investments in energy infrastructure, particularly the electric and natural gas sectors. Attached is the preliminary agenda for this event. Further details of this conference will be provided in a supplemental notice.

The conference will be open and free to the public; however, interested attendees are encouraged to preregister online at: https://www.ferc.gov/whats-new/registration/03-28-19-form.asp. In-person attendees should allow ample time to pass through building security procedures before the 10:00 a.m. start time of the conference.

The Commission intends to solicit post-technical conference comments and will issue a public notice with further directions following the conclusion of the conference.

Information regarding the conference will be posted on the Calendar of Events on the Commission's website, http://www.ferc.gov, prior to the event. The conference will also be webcast and transcribed. Anyone with internet access who desires to listen to this event can do so by navigating to the Calendar of Events at http://www.ferc.gov and locating this event in the Calendar. The event will contain a link to the webcast. The Capitol Connection provides technical support for webcasts and offers the option of listening to the meeting via phone-bridge for a fee. If you have any questions, visit http://www.CapitolConnection.org or call (703) 993-3100. Transcripts of the technical conference will be available for a fee from Ace-Federal Reporters, Inc. at (202) 347-3700.

Commission conferences are accessible under section 508 of the Rehabilitation Act of 1973. For accessibility accommodations, please send an email to accessibility@ferc.gov or call toll free 1 (866) 208-3372 (voice) or (202) 502-8659 (TTY), or send a fax to (202) 208-2106 with the required accommodations.

For more information about this technical conference, please contact Carolyn Templeton by phone at (202) 502-8785 or by email at carolyn.templeton@ferc.gov. For information related to logistics, please contact Sarah McKinley at (202) 502-8368 or by email at sarah.mckinley@ferc.gov.

Dated: March 1, 2019.
Kimberly D. Bose,
Secretary.

[FR Doc. 2019-04145 Filed 3-6-19; 8:45 am]

BILLING CODE 6717-01-P